ENVIRONMENTAL PROTECTION AGENCY

[EPA-HQ-ORD-2010-0970; FRL-9254-7]

Human Studies Review Board; Notice of Public Meeting; Correction

AGENCY: Environmental Protection Agency (EPA).

ACTION: Notice; correction.

SUMMARY: The U.S. Environmental Protection Agency (EPA) published a document in the Federal Register of January 12, 2011, announcing the January 26, 2011 public meeting of the Human Studies Review Board. The document contained incorrect Docket ID Number.

FOR FURTHER INFORMATION CONTACT: Lu-Ann Kleibacker, 202-564-7189.

Correction

In the Federal Register of January 12, 2011, in FR Doc. 2011-625, on page 2107, in the title, correct the “Docket ID No.” to read EPA-HQ-ORD-2010-0970.

On page 2108, in the first column, correct the “Docket ID No.” to read EPA-HQ-ORD-2010-0970.

ADDRESSES: Submit your written comments, identified by Docket ID No. EPA-HQ-ORD-2010-0970:

Internet: http://www.regulations.gov: Follow the on-line instructions for submitting comments.

E-mail: ord.docket@epa.gov.

Mail: Environmental Protection Agency, EPA Docket Center (EPA/DC), ORD Docket, Mailcode: 28221T, 1200 Pennsylvania Avenue, NW., Washington, DC 20460.

Hand Delivery: The EPA/DC Public Reading Room is located in the EPA Headquarters Library, Room Number 3334 in the EPA West Building, located at 1301 Constitution Avenue, NW., Washington, DC 20460. The hours of operation are 8:30 a.m. to 4:30 p.m. Eastern Time, Monday through Friday, excluding Federal holidays. Please call (202) 566-1744 or e-mail the ORD Docket at ord.docket@epa.gov for instructions. Updates to Public Reading Room access are available on the Web site (http://www.epa.gov/epahome/dockets.htm).

Instructions: Direct your comments to Docket ID No. EPA-HQ-ORD-2010-0970. EPA's policy is that all comments received will be included in the public docket without change and may be made available online at http://www.regulations.gov, including any personal information provided, unless the comment includes information claimed to be Confidential Business Information (CBI) or other information the disclosure of which is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

On page 2109, in the first column, correct the “Docket ID No.” to read EPA-HQ-ORD-2010-0970:

D. How may I participate in this meeting?

You may participate in this meeting by following the instructions in this section. To ensure proper receipt by EPA, it is imperative that you identify docket ID number EPA-HQ-ORD-2010-0970 in the subject line on the first page of your request.

Dated: January 13, 2011.
Paul T. Anastas,
EPA Science Advisor.

[FR Doc. 2011-1062 Filed 1-18-11; 8:45 am]

BILLING CODE 6560-50-P